DEPARTMENT OF THE INTERIOR

Geological Survey

[GX24EB00A181100; OMB Control Number 1028-0101]

Agency Information Collection Activities; The William T. Pecora Award Application and Nomination Process

AGENCY: U.S. Geological Survey, Department of the Interior.

ACTION: Notice of information collection; request for comment.

SUMMARY: In accordance with the Paperwork Reduction Act of 1995 (PRA), the U.S. Geological Survey (USGS) is seeking to extend an information collection.

DATES: Interested persons are invited to submit comments on or before January 23, 2024.

ADDRESSES: Send your comments on this information collection request (ICR) by mail to USGS, Information Collections Clearance Officer, 12201 Sunrise Valley Drive, MS 159, Reston, VA 20192; or by email to gs-info_collections@usgs.gov. Please reference OMB Control Number 1028-0101 The William T. Pecora Award Application and Nomination Process in the subject line of your comments.

FOR FURTHER INFORMATION CONTACT: To request additional information about this ICR, contact Sarah Cook by email at scook@usgs.gov or by telephone at 703-648-6136. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval under the PRA. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The William T. Pecora Awards are presented annually to individuals or teams using satellite or aerial remote sensing who make outstanding contributions toward understanding the Earth (land, oceans, and air), educating the next generation of scientists, informing decisionmakers, or supporting natural or human-induced disaster response. The award is sponsored jointly by the Department of the Interior (DOI) and the National Aeronautics and Space Administration (NASA). The award was established in 1974 to honor the memory of Dr. William T. Pecora, former Director of the U.S. Geological Survey and Under Secretary, Department of the Interior. Dr. Pecora was a motivating force behind the establishment of a program for civil remote sensing of the Earth from space. His early vision and support helped establish what we know today as the Landsat satellite mission. The purpose of the award is to recognize individuals or groups working in the field of remote sensing of the Earth. National and international nominations are accepted from public and private sector individuals, teams, organizations, and professional societies.

The nomination packages include three sections: a cover sheet, a summary statement, and supplemental materials. The cover sheet includes professional contact information. The summary statement is limited to two pages and describes the nominee's achievements in the scientific and technical remote sensing community, contributions leading to successful practical applications of remote sensing, and/or major breakthroughs in remote sensing science or technology. The supplemental materials section is limited to 12 pages (resume, publications list, letters of endorsement, etc.) which highlights the specific individual or group's achievements which should be peer-reviewed and documented in industry-recognized and scientifically credible publications.

Title of Collection: The William T. Pecora Award Application and Nomination Process.

OMB Control Number: 1028-0101.

Form Number: None.

Type of Review: Extension of an existing collection.

Respondents/Affected Public: Individuals, businesses and other academic and non-profit institutions; State, local and Tribal governments.

Total Estimated Number of Annual Respondents: 10-15.

Total Estimated Number of Annual Responses: 10-15.

Estimated Completion Time per Response: 6 hours.

Total Estimated Number of Annual Burden Hours: 90 hours.

Respondent's Obligation: Voluntary.

Frequency of Collection: Annually.

Total Estimated Annual Nonhour Burden Cost: None.

An agency may not conduct or sponsor, and a person is not required to respond to, a collection of information unless it displays a currently valid OMB control number.

The authority for this action is the PRA (44 U.S.C. 3501 et seq.).

Timothy Newman,
Program Coordinator, National Land Imaging Program, USGS.

[FR Doc. 2023-25944 Filed 11-22-23; 8:45 am]

BILLING CODE 4338-11-P